DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by December 23, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Commercial Use of Woodsy Owl Symbol—36 CFR part 272.

OMB Control Number: 0596-0087.

Summary of Collection: The Woodsy Owl-Smoky Bear Act of 1974 established the Woodsy Owl symbol and slogan, authorizes the Secretary of Agriculture to manage the use of the slogan and symbol, authorizes the licensing of the symbol for commercial use, and provides for continued protection of the symbol. Part 272 of Title 36 of the Code of Federal Regulations authorizes the Chief of the Forest Service to approve commercial use of the Woodsy Owl symbol and to collect royalty fees. Commercial use includes replicating Woodsy Owl symbol or logo on items, such as tee shirts, mugs, pins, figurines, ornaments, stickers, and toys and using the image and or slogan of the icon in motion pictures, documentaries, TV, magazine stories, and books, magazines, and other for-profit paper products.

Woodsy Owl is America's symbol for the conservation of the environment. The public service campaign slogans associated with Woodsy Owl are “Give a Hoot, Don't Pollute” and “Lend a Hand, Care for the Land.” The mission statement of the Woodsy Owl's conservation campaign is to help young children discover the natural world and join in life-long actions to care for that world.

Need and Use of the Information: The USDA Forest Service Conservation Education Program Director will use the collected information to determine if the applicant will receive a license or renewal of an existing license and the associated royalty fees. Information collected includes, but is not limited to, tenure of business or non-profit organization, current or planned products, physical location, projected sales volume, and marketing plans.

Description of Respondents: Business or other for-profit; Not-for-profit institutions.

Number of Respondents: 35.

Frequency of Responses: Recordkeeping; Reporting: Quarterly.

Total Burden Hours: 52.

Forest Service

Title: Land Exchanges.

OMB Control Number: 0596-0105.

Summary of Collection: Land exchanges are discretionary, voluntary real estate transactions between the Secretary of Agriculture (acting by and through the Forest Service) and a non-Federal exchange party (or parties). Land exchanges can be initiated by a non-Federal party (or parties), an agent of a landowner, a broker, a third party, or a non-Federal public agency.

Each land exchange requires preparation of an Agreement to Initiate as required by title 36 Code of Federal Regulations (CFR), part 254, subpart A—section 254.4—Agreement to Initiate. The Agreement to Initiate document specifies the preliminary and non-binding intentions of the non-Federal land exchange party and the Forest Service in pursuing a land exchange. The Agreement to Initiate can contain such information as the description of properties being considered in the land exchange, an implementation schedule of action items, identification of the party responsible for each action item, as well as target dates for completion of each action item.

As the exchange proposal develops, the Forest Service and the non-Federal land exchange party may enter into a binding Exchange Agreement, pursuant to Title 36 CFR part 254, subpart A, section 254.14—Exchange Agreement. The Exchange Agreement documents the conditions that must be met to complete the exchange. The Exchange Agreement can contain information such as identification of parties, description of lands and interests to be exchanged, identification of all reserved and outstanding interest, and all other terms and conditions necessary to complete the exchange.

Need and Use of the Information: The Forest Service collects the information from the non-Federal party (or parties) necessary to complete the Agreement to Initiate and the Exchange Agreement. The information is collected by Forest Service personnel from parties involved in the exchange via telephone, email or in person. Data from this information collection is unique to each land exchange and is not available from other sources. No standardized forms are associated with this information collection.

Description of Respondents: Business or other for-profit; Farms; Not-for-profit institutions.

Number of Respondents: 3.

Frequency of Responses: Reporting: Once.

Total Burden Hours: 20.

Forest Service

Title: Wilderness and Wild and Scenic Rivers Program Administration.

OMB Control Number: 0596-0106.

Summary of Collection: The Federal Lands Recreation and Enhancement Act (16 U.S.C. 6801-6814) authorizes the Forest Service (FS) to collect recreation fees for use of government facilities and services. The Organic Administration Act (16 U.S.C. 473), the Wilderness Act (16 U.S.C. 1131), and Wild and Scenic Rivers Act (16 U.S.C. 1271) authorize FS to collect information from National Forest System visitors who are asked to describe the location of their visit and estimated duration of stay. Every year millions of people visit National Forest System recreations sites. At some of these sites, the public is required to pay a fee to use the site. Fees are charged to help cover the costs of operating and maintaining fee sites, areas, and facilities such as campgrounds. FS will collect information from the forms to document when visitors pay a required recreation fee and to schedule requests for use and occupancy of government owned facilities.

Need and Use of the Information: Forms used to collection information and fees from visitors: (1) Visitor Permit (FS-2300-30); (2) Visitor Registration Card (FS-2300-32). The information collected by them assists Forest Service personnel in improving facilities and services, managing recreation areas and activities, preventing resource damage, preserving high quality outdoor experiences, and providing visitor safety. These forms have and will continue to help the Agency meet resource objectives and visitor needs.

Description of Respondents: Individuals or households.

Number of Respondents: 552,000.

Frequency of Responses: Reporting: On occasion.

Total Burden Hours: 27,600.

Forest Service

Title: Health Screening Questionnaire.

OMB Control Number: 0596-0164.

Summary of Collection: The Protection Act of 1922 (16 U.S.C. 594) authorizes the Forest Service (FS) to fight fires on National Forest System lands. Title 5 CFR, part 339, authorizes the FS to establish medical qualification standards and require pre-appointment medical examinations, regular recurring periodic examinations after appointment, and whenever there is a direct question about a firefighter's continued ability to meet the medical qualification standards. The information collected pertains to an individual's health status and health history. The collection of this information and use thereof are consistent with the provisions of 5 U.S.C. 552a (Privacy Act of 1974).

Need and Use of the Information: The information is used by the Forest Service Fire and Aviation Management Medical Officers to determine the stability of an employee's medical condition as to whether they are medical qualified to participate in the Work Capacity Test and for arduous duty positions, medically qualified to perform their job in order to try to prevent catastrophic outcomes from medical incidents. This is an ongoing process throughout the year for fire personnel across the nation.

Description of Respondents: Individuals or households.

Number of Respondents: 61,000.

Frequency of Responses: Reporting: Annually.

Total Burden Hours: 20,587.

Forest Service

Title: Forest Service Ride-Along Program Application.

OMB Control Number: 0596-0170.

Summary of Collection: The Forest Service (FS) Law Enforcement and Investigations (LE&I) Ride-Along Program allows the general public or other interested persons to accompany Agency law enforcement personnel as they conduct their normal field duties, including access to and discussions about Agency law enforcement vehicles, procedures, and facilities. This program provides an opportunity for officers to enhance the public's understanding and support of the Forest Service's law enforcement program while the officers learn about public and community issues and concerns.

The program offers the additional benefit of aiding the Agency's recruitment program by allowing interested persons to observe and participate in innovative intern-type programs. This access also provides the Agency with an opportunity to showcase the quality of the law enforcement program and services.

Need and Use of the Information: Information will be collected from any person who voluntarily approaches the FS and wishes to participate in the program. The FS 5300-33 program application form will be used to conduct a minimal background check and the FS 5300-34 is a liability waiver form that requires the applicant's signature and their written assurance that they have read and understood the form. The information collected from the forms will be used by FS and, in appropriate part, by any person or entity needed and authorized by the FS to provide the needed background information (primarily applicable local law enforcement agencies, state criminal justice agencies maintaining state justice records, and by the FBI). If the information is not collected, the program could not operate.

Description of Respondents: Individuals or households.

Number of Respondents: 182.

Frequency of Responses: Reporting: Annually.

Total Burden Hours: 91.

Forest Service

Title: Post-Decisional Administrative Review Process.

OMB Control Number: 0596-0231.

Summary of Collection: The Forest Service has had some form of appeals process for almost 100 years. The Department adopted an administrative appeal rule at 36 CFR part 251, subpart C (251 Appeal Rule) on January 23, 1989. In this case for the 251 Appeal Rule, the Agency, at its own discretion, provides a process by which holders, operators, and solicited applicants may appeal certain written decisions issued by a Responsible Official involving a written instrument authorizing the occupancy or use of National Forest System (NFS) lands and resources.

On June 5, 2013, the Department issued a final rule to update, rename, and relocate the administrative appeal regulations governing occupancy or use of NFS lands and resources to a new part 214 entitled “Post-decisional Administrative Review Process for Occupancy or Use of National Forest System Lands and Resources” (78 FR 33705). The new part 214 shortens the appeal process, the appeal period, and reduces the cost to the appellant and government of processing the appeal.

Need and Use of the Information: Information is collected and submitted from individuals who are holders or operators of a valid written authorization to occupy or use NFS lands and resources. The appellant must provide name, mailing address, daytime telephone number, email address, signature, and statements of how appellant is adversely affected by decision being appealed; relevant facts underlying the decision; discussion of issues raised by the decision; attempts to resolve issues under appeal with the Responsible Official and a statement of the relief sought. The information is used to review an agency decision on a written authorization against the issues raised by the appellant and determine whether to affirm or reverse the decision.

Description of Respondents: Individuals or households.

Number of Respondents: 25.

Frequency of Responses: Reporting: Once.

Total Burden Hours: 200.

Levi S. Harrell,
Departmental Information Collection Clearance Officer.

[FR Doc. 2022-25503 Filed 11-22-22; 8:45 am]

BILLING CODE 3411-15-P